FEDERAL MARITIME COMMISSION

Ocean Transportation Intermediary License; Reissuance

Notice is hereby given that the following Ocean Transportation Intermediary licenses have been reissued by the Federal Maritime Commission pursuant to section 19 of the Shipping Act of 1984 (46 U.S.C. Chapter 409) and the regulations of the Commission pertaining to the licensing of Ocean Transportation Intermediaries, 46 CFR part 515.

License No. | Name/Address | Date reissued
004473F | Maromar International Freight Forwarders Inc. dba Maromar Shipping Line, 8710 NW. 99th Street, Medley, FL 33178 | April 8, 2011.
022056F | Prolog Services Inc. dba PSI Ocean Freight Systems, 5803 Sovereign Drive, Suite 220, Houston, TX 77036 | April 9, 2011.

Sandra L. Kusumoto,
Director, Bureau of Certification and Licensing.

[FR Doc. 2011-13733 Filed 6-1-11; 8:45 am]

BILLING CODE 6730-01-P